FEDERAL COMMUNICATIONS COMMISSION

[DA 20-308; FRS 16674]

Consumer Advisory Committee

AGENCY: Federal Communications Commission.

ACTION: Notice.

SUMMARY: This is a supplemental notice regarding the meeting of the Federal Communications Commission's (hereinafter “FCC” or “Commission”) Consumer Advisory Committee (hereinafter the “Committee”) scheduled for April 27, 2020. The Committee will hold this upcoming meeting remotely via live internet link on the Commission's website.

DATES: April 27, 2020, 10:30 a.m. to 12:30 p.m.

ADDRESSES: The Meeting will be held via conference call and will be available to the public at http://www.fcc.gov/live.

FOR FURTHER INFORMATION CONTACT: Scott Marshall, Designated Federal Officer of the Committee, (202) 418-2809 (voice or Relay), email: scott.marshall@fcc.gov; or Gregory V. Haledjian, Deputy Designated Federal Officer of the Committee, (202) 418-7440 (voice or Relay) email: gregory.haledjian@fcc.gov. U.S. Postal Service Mailing address: Federal Communications Commission, 445 12th Street SW, Washington, DC 20554.

SUPPLEMENTARY INFORMATION: The Commission announced the meeting in a Public Notice, DA-308, released on April 7, 2020. This Public Notice was published in the Federal Register on April 16, 2020.

Good cause for late notice: The announcement of the public meeting was published in the Federal Register less than 15 days before the meeting date of April 27, 2020. There is good cause for this late notice. Specifically, although the Commission issued the Public Notice on April 7, 2020, disruptions in connection with the COVID-19 pandemic delayed the Office of the Federal Register's receipt of the notice from the Commission as well as subsequent publication in the Federal Register.

Federal Communications Commission.
Gregory Haledjian,
Legal Advisor, Consumer and Governmental Affairs Bureau.

[FR Doc. 2020-08400 Filed 4-20-20; 8:45 am]

BILLING CODE 6712-01-P